DEPARTMENT OF TRANSPORTATION

Federal Highway Administration

[Docket No. FHWA-2010-0177]

Agency Information Collection Activities: Request for Comments for a New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on September 7, 2010. We are required to publish this notice in the Federal Register by the Paperwork Reduction Act of 1995.

DATES: Please submit comments by February 4, 2011.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2010-0177.

FOR FURTHER INFORMATION CONTACT: Karen White, (202) 366-9474, Office of Innovative Program Delivery. Federal Highway Administration, Department of Transportation, 1200 New Jersey Avenue, SE., Washington, DC 20590. Office hours are from 8:30 a.m. to 5 p.m., Monday through Friday, except Federal holidays.

SUPPLEMENTARY INFORMATION:

Title: Experiments on Driving under Uncertain Congestion Conditions and the Effects on Traffic Networks from Congestion Pricing Initiatives.

Background: The traditional way of financing the transportation system in the U.S. is currently being challenged and new revenue schemes are being evaluated for possible implementation. In addition, the growth in traffic volume overwhelms the ability to finance additional road capacity. Congestion pricing is gaining support across the world as a way to solve the congestion problem and thereby ease the congestion cost to the public and at the same time generate revenues that can be used to fund additional transportation capacity. While congestion pricing strategies have been implemented in several parts of the world, the implementation is still relatively limited in this country.

This study will assess the responses to several congestion pricing schemes by asking volunteer participants to make driving choices under these schemes in an experiment. The study will present participants with a number of choice situations involving routes that vary in road pricing and travel time. Three basic types of experiments will be conducted: A field experiment using Global Positioning System (GPS) trackers; a multi-driver traffic simulation experiment; and a single driver simulator experiment. In addition to these experiments, participants will answer short demographic questionnaires and short surveys of their driving habits.

The initial phase will consist of recruiting participants by sending out invitation letters to potential participants who are drivers on select routes in the Miami, Florida; Orlando, Florida; and Atlanta, Georgia metropolitan areas. Local toll road agencies have agreed to collaborate with the researchers in this phase. The invitation will ask those who are interested to complete a survey online. This survey is used to filter respondents based on how frequently they drive on the selected routes. A typical respondent will complete this survey in 30 minutes. Respondents who express interest in being part of the experiments will be asked to attend four face-to-face sessions. There will be a choice of times and locations for these sessions so as to make it convenient for the participant. In these sessions participants will be presented with lottery choices, betting tasks, and simulator driving tasks, in addition to a short questionnaire about their demographics and driving habits. These tasks are intended to observe characteristics in drivers that are important to their driving choices when roads are congested. The choice tasks, questionnaires and simulator driving tasks will require 4½ hours of the participant's time, spread over the four sessions. In addition, all participants' cars will be outfitted with a GPS device that can receive but not send signals, allowing us to collect information on driving habits. The installation is simple and will only take a couple of minutes. All driving data will be downloaded directly from the device to a computer. Sensitive data, such as the home and work locations of the drivers, will not be downloaded. Approximately two weeks will pass between each session; a time frame that is determined by the capacity of the GPS device's ability to store data of subjects' travel log. The total time required for instructing participants in the field driving task, installing the device, and downloading all the data will be one hour, spread out over the four sessions. All of the 1,200 participants will have their car equipped with a GPS while participating in the study. However, since we partition the study into three parts there will be a maximum of 400 cars that have GPS installed at any time in the field experiment.

During the first two sessions participants will be given driving simulator tasks, lottery and betting tasks, and questionnaires. Participants will receive money for driving on the routes studied but tolls that vary across routes and departure times will be subtracted from this money. If a toll from the study is applied to a route that already has a toll, the existing toll is subtracted from the toll charge in the study. If the existing toll is higher than the toll charge in the study, the participant will be paid the difference from the study. Some routes will have no toll charge. Participants will also receive money in a similar manner for driving in the simulators, and for the non-simulator choice tasks. There will also be a fixed compensation for attending each of the four sessions, and for completing the entire study.

A total of 1,200 persons will participate, divided across the three regions. 10 weeks will be needed to complete the 4 sessions for each group of participants. 100 of these participants will be expected to volunteer for an additional 10 week field driving period for additional monetary compensation. The sessions will be timed very carefully since the student research assistants helping the participants will not be available during final exam periods and certain breaks.

Respondents: 1200 participants are expected to participate throughout all tasks.

Frequency: In phase 1, a survey will be completed via the internet, followed by four face-to-face sessions and three two-week periods of driving with a GPS devise for most participants and twice that for a few selected participants. The face-to-face sessions will take place within a 10-week period. For those who are selected to double their participation there will be a break before starting the second period.

Estimated Average Burden per Response: The online questionnaire will require 30 minutes for a typical respondent. Two of the face-to-face sessions will last two hours each, the third session will last one hour, and the final session will be completed in thirty minutes. This time covers the 4½ hours for the simulator tasks, the other choice tasks, and questionnaires, and the one hour for installing the GPS device, instructing participants in the field driving task plus downloading the GPS data to a computer. The average time allocation per participant is therefore expected to be 6 hours. For those who choose to double their participation there will be a need for an additional two hours spread across four sessions.

Estimated Total Burden Hours: Approximately 7,600 hours.

6 hours × 1200 participants = 7200

2 hours × 200 participants = 400

Authority: The Paperwork Reduction Act of 1995; 44 U.S.C. Chapter 35, as amended; and 49 CFR 1.48.

Issued on: December 29, 2010.
Cynthia Thornton,
Acting Chief, Management Programs and Analysis Division.

[FR Doc. 2010-33294 Filed 1-4-11; 8:45 am]

BILLING CODE P